DEPARTMENT OF THE INTERIOR

National Park Service

National Register of Historic Places; Notification of Pending Nominations and Related Actions

Nominations for the following properties being considered for listing or related actions in the National Register were received by the National Park Service before February 26, 2005. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by April 5, 2005.

Carol D. Shull,
Keeper of the National Register of Historic Places.

CALIFORNIA

Contra Costa County

Merrill, Charles W., House, 407 Camino Sobrante, Orinda, 05000251

IOWA

Delaware County

Kirkpatrick, Robert Round Barn, (Iowa Round Barns: The Sixty Year Experiment TR), 3342-120th Ave., Coggon, 05000252

Polk County

Universalist Church, 420 4th St., Mitchellville, 05000253

KENTUCKY

Jefferson County

Schaefer—Meyer Brewing Co., Address Restricted, Louisville, 05000255

Oldham County

Bradshaw—Duncan House, 8502 Todds Point Rd., Crestwood, 05000254

MONTANA

Gallatin County

Three Valleys State Bank, 202 Main St., Three Forks, 05000256

NEW MEXICO

Sierra County

Fort McRae, Address Restricted, Elephant Butte, 05000258

NEW YORK

Albany County

Van derzee, Cornelius and Agnietje, Van Derzee Rd., Coeymans, 05000259

Cayuga County

Ingham, William Smith, House, 3069 W Main St., Meridian, 05000263

Columbia County

Pulver, William and Victoria, House, 2329 Cty Rd. 8, Snyderville, 05000260

Dutchess County

St. Thomas' Episcopal Church, Leedsville Rd., N side, W of NY 41, Amenia Union, 05000261

Greene County

Parsonage, The, 424 Main St., Oak Hill, 05000262

Nassau County

Saint Mary's Chapel, Rushmore Ave. bet Roslyn Ave. and Glen Cove Ave., Carle Place, 05000270

Saratoga County

St. Stephen's Episcopal Church, 1 Grove St., Schuylerville, 05000264

Suffolk County

Port Jefferson Village Historic District, Roughly along E. Main St., E. Broadway, Grant ST., High St. and South St., Port Jefferson, 05000265

NORTH CAROLINA

Cleveland County

King Street Overhead Bridge, King St. Bet. Battleground and Railroad Aves., Kings Mountain, 05000268

Person County

Long, James A and Laura Thompson, House, 217 S. Main St., Roxboro, 05000267

Stanly County

Second Street Historic District, Portions of 100 and 200 blks N. Second St. and 100 blk West North St., Albemarle, 05000266

Yadkin County

Morse and Wade Building, 100 E. Main St., East Bend, 05000269

PUERTO RICO

Cayey Municipality

Rodriguez Morales, Juana, House, 7 Nunez Romeu St., Cayey, 05000257

VIRGINIA

Louisa County

Mineral Historic District, Roughly along Mineral, Louisa, Lee, Richmond, Albemarle, Pendleton, Piedmont, Old Tolersville, S. Cecilia, et al, Mineral, 05000271

WISCONSIN

Wood County

Marshfield Senior High School, 900 E. Fourth St., Marshfield, 05000272

A request for REMOVAL has been made for the following resources:

NORTH DAKOTA

Grand Forks

Building at 205 DeMers Ave., (Downtown Grand Forks MRA), 205 DeMers Ave., Grand Forks, 82001316

Building at 317 S. 3rd St., (Downtown Grand Forks MRA), 317 S. 3rd St., Grand Forks, 82001318

House at 1648 Riverside Drive, 1648 Riverside Dr., Grand Forks, 94001074

New Hampshire Apartments, (Downtown Grand Forks MRA), 105 N. 3rd St., Grand Forks, 82001332

Viets Hotel, (Downtown Grand Forks MRA), 309-311 3rd St., S, Grand Forks, 82001341

[FR Doc. 05-5447 Filed 3-18-05; 8:45 am]

BILLING CODE 4312-51-P